DEPARTMENT OF ENERGY

Federal Energy Regulatory Commission

Combined Notice of Filings

Take notice that the Commission has received the following Natural Gas Pipeline Rate and Refund Report filings:

Docket Numbers: RP21-989-000.

Applicants: Algonquin Gas Transmission, LLC.

Description: § 4(d) Rate Filing: Negotiated Rates—Various Releases eff 8-1-2021 to be effective 8/1/2021.

Filed Date: 7/30/21.

Accession Number: 20210730-5002.

Comments Due: 5 p.m. ET 8/11/21.

Docket Numbers: RP21-990-000.

Applicants: Maritimes & Northeast Pipeline, L.L.C.

Description: § 4(d) Rate Filing: Negotiated Rates—Various Releases eff 8-1-2021 to be effective 8/1/2021.

Filed Date: 7/30/21.

Accession Number: 20210730-5003.

Comments Due: 5 p.m. ET 8/11/21.

Docket Numbers: RP21-991-000.

Applicants: Nautilus Pipeline Company, L.L.C.

Description: § 4(d) Rate Filing: Negotiated Rates—Talos 630206-7 eff 8-1-2021 to be effective 8/1/2021.

Filed Date: 7/30/21.

Accession Number: 20210730-5005.

Comments Due: 5 p.m. ET 8/11/21.

Docket Numbers: RP21-992-000.

Applicants: Great Lakes Gas Transmission Limited Partnership.

Description: Compliance filing Semi-Annual Transporter's Use Report July 2021.

Filed Date: 7/30/21.

Accession Number: 20210730-5007.

Comments Due: 5 p.m. ET 8/11/21.

Docket Numbers: RP21-993-000.

Applicants: Cove Point LNG, LP.

Description: Compliance filing Cove Point—2021 Report of Operational Sales and Purchases of Gas.

Filed Date: 7/30/21.

Accession Number: 20210730-5010.

Comments Due: 5 p.m. ET 8/11/21.

Docket Numbers: RP21-994-000.

Applicants: Dominion Energy Overthrust Pipeline, LLC.

Description: § 4(d) Rate Filing: Non-conforming TSA Amendments to be effective 8/1/2021.

Filed Date: 7/30/21.

Accession Number: 20210730-5011.

Comments Due: 5 p.m. ET 8/11/21.

Docket Numbers: RP21-995-000.

Applicants: Eastern Gas Transmission and Storage, Inc.

Description: § 4(d) Rate Filing: EGTS—July 30, 2021 Nonconforming Service Agreements to be effective 9/1/2021.

Filed Date: 7/30/21.

Accession Number: 20210730-5012.

Comments Due: 5 p.m. ET 8/11/21.

Docket Numbers: RP21-996-000.

Applicants: Gulf South Pipeline Company, LLC.

Description: § 4(d) Rate Filing: Cap Rel Neg Rate Agmts (Atlanta Gas 8438 releases eff 8-1-2021) to be effective 8/1/2021.

Filed Date: 7/30/21.

Accession Number: 20210730-5014.

Comments Due: 5 p.m. ET 8/11/21.

Docket Numbers: RP21-997-000.

Applicants: Gulf South Pipeline Company, LLC.

Description: § 4(d) Rate Filing: Cap Rel Neg Rate Agmts (Marathon 51753, 51754 to Spire 54232, 54233) to be effective 8/1/2021.

Filed Date: 7/30/21.

Accession Number: 20210730-5015.

Comments Due: 5 p.m. ET 8/11/21.

Docket Numbers: RP21-998-000.

Applicants: Columbia Gulf Transmission, LLC.

Description: § 4(d) Rate Filing: Gulfport Non-Conforming NRA 174460 Amendment to be effective 8/1/2021.

Filed Date: 7/30/21.

Accession Number: 20210730-5016.

Comments Due: 5 p.m. ET 8/11/21.

Docket Numbers: RP21-999-000.

Applicants: Alliance Pipeline L.P.

Description: § 4(d) Rate Filing: Negotiated Rates—Various August 1 Capacity Releases to be effective 8/1/2021.

Filed Date: 7/30/21.

Accession Number: 20210730-5017.

Comments Due: 5 p.m. ET 8/11/21.

Docket Numbers: RP21-1000-000.

Applicants: Northern Natural Gas Company.

Description: § 4(d) Rate Filing: 20210730 Negotiated Rate to be effective 8/1/2021.

Filed Date: 7/30/21.

Accession Number: 20210730-5020.

Comments Due: 5 p.m. ET 8/11/21.

Docket Numbers: RP21-1001-000.

Applicants: Texas Eastern Transmission, LP.

Description: § 4(d) Rate Filing: TETLP 2021 Rate Case Filing to be effective 9/1/2021.

Filed Date: 7/30/21.

Accession Number: 20210730-5191.

Comments Due: 5 p.m. ET 8/11/21.

Docket Numbers: RP21-1002-000.

Applicants: Northwest Pipeline LLC.

Description: § 4(d) Rate Filing: Northwest Passage Service Filing to be effective 8/30/2021.

Filed Date: 7/30/21.

Accession Number: 20210730-5026.

Comments Due: 5 p.m. ET 8/11/21.

Docket Numbers: RP21-1003-000.

Applicants: Transcontinental Gas Pipe Line Company, LLC.

Description: § 4(d) Rate Filing: Negotiated Rates—Cherokee AGL—Replacement Shippers—Aug 2021 to be effective 8/1/2021.

Filed Date: 7/30/21.

Accession Number: 20210730-5035.

Comments Due: 5 p.m. ET 8/11/21.

Docket Numbers: RP21-1004-000.

Applicants: Wyoming Interstate Company, L.L.C.

Description: § 4(d) Rate Filing: Fuel and L&U Quarterly and No Fuel Area Update to be effective 9/1/2021.

Filed Date: 7/30/21.

Accession Number: 20210730-5043.

Comments Due: 5 p.m. ET 8/11/21.

Docket Numbers: RP21-1005-000.

Applicants: Texas Eastern Transmission, LP.

Description: § 4(d) Rate Filing: Negotiated Rates—Releases eff 08-01-2021 to be effective 8/1/2021.

Filed Date: 7/30/21.

Accession Number: 20210730-5045.

Comments Due: 5 p.m. ET 8/11/21.

Docket Numbers: RP21-1006-000.

Applicants: NEXUS Gas Transmission, LLC.

Description: § 4(d) Rate Filing: Negotiated Rates—Releases eff 08-01-2021 to be effective 8/1/2021.

Filed Date: 7/30/21.

Accession Number: 20210730-5061.

Comments Due: 5 p.m. ET 8/11/21.

Docket Numbers: RP21-1007-000.

Applicants: Rockies Express Pipeline LLC.

Description: § 4(d) Rate Filing: REX 2021-07-30 Negotiated Rate Agreement Amendment to be effective 8/1/2021.

Filed Date: 7/30/21.

Accession Number: 20210730-5071.

Comments Due: 5 p.m. ET 8/11/21.

Docket Numbers: RP21-1008-000.

Applicants: Elba Express Company, L.L.C.

Description: § 4(d) Rate Filing: Effingham/Oglethorpe Negotiated Rate Filing to be effective 9/1/2021.

Filed Date: 7/30/21.

Accession Number: 20210730-5121.

Comments Due: 5 p.m. ET 8/11/21.

Docket Numbers: RP21-1009-000.

Applicants: Dominion Energy Overthrust Pipeline, LLC.

Description: Annual Fuel Gas Reimbursement Report of Dominion Energy Overthrust Pipeline, LLC.

Filed Date: 7/30/21.

Accession Number: 20210730-5128.

Comments Due: 5 p.m. ET 8/11/21.

Docket Numbers: RP21-1011-000.

Applicants: UGI Storage Company.

Description: Annual Report of Operational Purchases and Sales of UGI Storage Company.

Filed Date: 7/30/21.

Accession Number: 20210730-5207.

Comments Due: 5 p.m. ET 8/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2021.
Debbie-Anne A. Reese,
Deputy Secretary.

[FR Doc. 2021-16920 Filed 8-6-21; 8:45 am]

BILLING CODE 6717-01-P